NATIONAL AERONAUTICS AND SPACE ADMINISTRATION

[Notice: 01-159]

Notice of Agency Report Forms Under OMB Review

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)). This collection is required to document changes to NASA contracts and ensure that they are made quickly and in a cost-effective manner.

DATES: Comments on this proposal should be received by January 28, 2002.

ADDRESSES: All comments should be addressed to Desk Officer for NASA; Office of Information and Regulatory Affairs; Office of Management and Budget; Room 10236; New Executive Office Building; Washington, DC, 20503.

FOR FURTHER INFORMATION CONTACT: Ms. Nancy Kaplan, NASA Reports Officer, (202) 358-1372.

Title: Contract Modifications, NASA FAR Supplement Part 18-43.

OMB Number: 2700-0054.

Type of Review: Extension.

Need and Uses: NASA procurement and technical personnel use the information obtained by this collection to manage each contract, and to ensure that the Agency can obtain the best goods and services at the best prices.

Affected Public: Business or other for-profit; Not-for-profit institutions.

Number of Respondents: 88.

Responses Per Respondent: 2.

Annual Responses: 176.

Hours Per Request: 45.

Annual Burden Hours: 7,920.

Frequency of Report: On occasion.

David B. Nelson,
Deputy Chief Information Officer, Office of the Administrator.

[FR Doc. 01-31958 Filed 12-27-01; 8:45 am]

BILLING CODE 7510-01-P